DEPARTMENT OF HEALTH AND HUMAN SERVICES

Food and Drug Administration

[Docket No. FDA-2020-N-2226]

Cheese Slice Products Deviating From Identity Standard; Temporary Permit for Market Testing

AGENCY: Food and Drug Administration, HHS.

ACTION: Notice.

SUMMARY: The Food and Drug Administration (FDA or we) is announcing that a temporary permit has been issued to Bongards Creameries (the applicant) to market test several pasteurized standardized cheeses that deviate from the standards of identity for cheese products. The temporary permit will allow the applicant to evaluate commercial viability of the products and to collect data on consumer acceptance of the products.

DATES: This permit is effective for 15 months, beginning on the date the applicant introduces or causes introduction of the test products into interstate commerce, but not later than July 27, 2023.

FOR FURTHER INFORMATION CONTACT: Marjan Morravej, Center for Food Safety and Applied Nutrition (HFS-820), Food and Drug Administration, 5001 Campus Drive, College Park, MD 20740, 240-402-2371.

SUPPLEMENTARY INFORMATION: We are giving notice that we have issued a temporary permit to Bongards Creameries. We are issuing the temporary permit in accordance with 21 CFR 130.17, which addresses temporary permits for interstate shipments of experimental packs of food varying from the requirements of standards of identity issued under section 401 of the Federal Food, Drug, and Cosmetic Act (21 U.S.C. 341).

The permit covers interstate marketing test of several pasteurized standardized cheeses. The test products deviate from the standards of identity for cheese products under 21 CFR 133.167, 133.169, 133.170, 133.171, 133.173, 133.174, 133.175, 133.179, and 133.180. The permit would allow the manufacture of cheese products using extra virgin olive oil, which is not permitted under the standards of identity for these cheese products, as the slice anti-sticking agent. Consumers can distinguish this deviation in manufacturing from standardized cheese through the ingredient list, wherein the “olive oil” ingredient would be declared as such according to its common or usual name followed by a means (e.g., an asterisk and footnote) to indicate to the consumer that the ingredient is not found in regular cheese consistent with 21 CFR part 133.

The purpose of the temporary permit is to allow the applicant to market test the products throughout the United States. The permit will allow the applicant to evaluate commercial viability of the products and to collect data on consumer acceptance of the products.

The permit provides for the temporary marketing of a maximum of 20 million pounds (9.09 million kilograms) of the test products. Bongards Creameries will manufacture the test products at its facilities located at 13200 County Rd. 51, Bongards, MN 55368, and 3001 Hwy. 45 Bypass W, Humboldt, TN 38343.

Bongards Creameries will produce, market test, and distribute the test products in any combination of cheese slices including Pasteurized Process American, Cheddar, Pepper Jack, Swiss, Mozzarella, and Provolone, throughout the United States.

Each ingredient used in the food must be declared on the labels as required by 21 CFR part 101. The permit is effective for 15 months, beginning on the date the applicant introduces or causes the introduction of the test products into interstate commerce, but not later than July 27, 2023.

Dated: April 24, 2023.
Lauren K. Roth,
Associate Commissioner for Policy.

[FR Doc. 2023-08962 Filed 4-27-23; 8:45 am]

BILLING CODE 4164-01-P